NATIONAL AERONAUTICS AND SPACE ADMINISTRATION

48 CFR Part 1802

RIN AD10

Head of Contracting Activity (HCA) Change for Exploration Systems Directorate

AGENCY: National Aeronautics and Space Administration.

ACTION: Final rule.

SUMMARY: This final rule revises the NASA FAR Supplement (NFS) by amending the definition of “head of contracting activity” consistent with the realignment of program management responsibilities between NASA Headquarters and the field centers.

DATES: Effective May 23, 2005.

FOR FURTHER INFORMATION CONTACT: Tom Russell, NASA, Office of Procurement, Program Operations Division; (202) 358-0484; e-mail: trussell@nasa.gov.

SUPPLEMENTARY INFORMATION:

A. Background

On June 16, 2004, the Assistant Administrator for Procurement approved a deviation to NFS 1802.101 to designate the Associate Administrator for Exploration Systems as head of the contracting activity in lieu of the Center Director(s) for all contracts that directly support the Exploration Systems Mission Directorate (ESMD). This deviation was approved in support of the Headquarters transformation and the realignment of program management responsibilities between NASA Headquarters and the field centers. This final rule implements that deviation.

B. Regulatory Flexibility Act

This final rule does not constitute a significant revision within the meaning of FAR 1.501 and Public Law 98-577, and publication for public comment is not required. However, NASA will consider comments from small entities concerning the affected NFS Part 1802 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1802

Government procurement.

Tom Luedtke,
Assistant Administrator for Procurement.

PART 1802—DEFINITIONS OF WORDS AND TERMS

Accordingly, 48 CFR part 1802 is amended as follows:

1. The authority citation for 48 CFR part 1802 continues to read as follows:

Authority: 42 U.S.C. 2473(c)(1)

2. Amend section 1802.101 by revising the definition of “head of the contracting activity (HCA)” to read as follows:

1802.101 Definitions.

* * * * *

Head of the contracting activity (HCA) means, for field installations, the Director or other head and, for NASA Headquarters, the Assistant Administrator for Management Systems. For International Space Station (ISS) and Space Shuttle Program contracts, the HCA is the Headquarters Deputy Associate Administrator for ISS and Shuttle Programs in lieu of the field Center Director(s). For Exploration Systems Mission Directorate (ESMD) contracts, the HCA is the Associate Administrator for ESMD in lieu of the field Center Director(s).

* * * * *

[FR Doc. 05-9953 Filed 5-20-05; 8:45 am]

BILLING CODE 7510-01-P